DEPARTMENT OF TRANSPORTATION

Federal Aviation Administration

14 CFR Part 71

[Docket No. FAA-2020-0049; Airspace Docket No. 19-AEA-11]

RIN 2120-AA66

Proposed Revocation and Amendment of Multiple Air Traffic Service (ATS) Routes in the Vicinity of Bradford, PA, and Wellsville, NY

AGENCY: Federal Aviation Administration (FAA), DOT.

ACTION: Notice of proposed rulemaking (NPRM).

SUMMARY: This action proposes to amend nine VHF Omnidirectional Range (VOR) Federal airways, V-33, V-116, V-119, V-126, V-164, V-170, V-265, V-270, and V-501, in the vicinity of Bradford, PA, and Wellsville, NY. The VOR Federal airway modifications are necessary due to the planned decommissioning of the VOR portions of the Bradford, PA, VOR/Distance Measuring Equipment (VOR/DME) and the Wellsville, NY, VOR/Tactical Air Navigation (VORTAC) navigation aids (NAVAIDs). The NAVAIDs provide navigation guidance for portions of the affected airways. These VORs are being decommissioned as part of the FAA's VOR Minimum Operational Network (MON) program.

DATES: Comments must be received on or before March 20, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0049; Airspace Docket No. 19-AEA-11 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0049; Airspace Docket No. 19-AEA-11) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0049; Airspace Docket No. 19-AEA-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX, 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning decommissioning activities for the VOR portion of the Bradford, PA, VOR/DME and the Wellsville, NY, VORTAC in September, 2020. The VOR portion of the Bradford, PA, and Wellsville, NY, NAVAIDs are candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Bradford, PA, and Wellsville, NY, NAVAIDs are planned for decommissioning, the co-located DME portions of the NAVAIDs are being retained.

The ATS route dependencies to the Bradford VOR/DME are VOR Federal airways V-33, V-116, V-119, V-126, V-170, and V-265. Similarly, the ATS route dependencies to the Wellsville VORTAC are VOR Federal airways V-119, V-164, V-270, and V-501.

With the planned decommissioning of the VOR portion of the Bradford, PA, and Wellsville, NY, NAVAIDs, the remaining ground-based NAVAID coverage in the areas is insufficient to enable the continuity of the affected VOR Federal airways. As such, proposed modifications to the affected VOR Federal airways would result in gaps in the airways. To overcome the airway gaps, instrument flight rules (IFR) traffic could use adjacent ATS routes, including V-6/30, V-31, V-34, V-35, V-36, V-147, V-226, and V-252, to circumnavigate the affected area. IFR traffic could also file point to point through the affected area using the existing airway fixes that will remain in place, as well as adjacent NAVAIDs, or receive air traffic control (ATC) radar vectors through the area. Visual flight rules pilots who elect to navigate via the airways through the affected area could also take advantage of the adjacent VOR Federal airways or ATC services listed previously.

Additionally, the Keating VORTAC NAVAID listed in the V-265 description is located in Keating, Pennsylvania. As such, the state abbreviation for the NAVAID listed in the description should reflect “PA” instead of “NY”. This editorial correction to the V-265 description is also included in this proposed action.

The Proposal

The FAA is proposing an amendment to Title 14 Code of Federal Regulations (14 CFR) part 71 by modifying VOR Federal airways V-33, V-116, V-119, V-126, V-164, V-170, V-265, V-270, and V-501. The planned decommissioning of the VOR portion of the Bradford, PA, VOR/DME and Wellsville, NY, VORTAC NAVAIDs has made this action necessary. The proposed VOR Federal airway changes are outlined below.

V-33: V-33 currently extends between the Harcum, VA, VORTAC and the Nottingham, MD, VORTAC; and between the Baltimore, MD, VORTAC and the Buffalo, NY, VOR/DME. The airspace within R-4007A and R-4007B is excluded. The FAA proposes to remove the airway segment overlying the Bradford, PA, VOR/DME between the Keating, PA, VORTAC and the Buffalo, NY, VOR/DME. Additional changes to other portions of the airway have been proposed in a separate NPRM. The unaffected portions of the existing airway would remain as charted.

V-116: V-116 currently extends between the Erie, PA, VORTAC and the Sparta, NJ, VOR/DME. The FAA proposes to remove the airway segment overlying the Bradford, PA, VOR/DME between the Erie, PA, VORTAC and the Stonyfork, PA, VOR/DME. The unaffected portions of the existing airway would remain as charted.

V-119: V-119 currently extends between the Newcombe, KY, VORTAC and the Rochester, NY, VOR/DME. The FAA proposes to remove the airway segment overlying the Bradford, PA, VOR/DME and the Wellsville, NY, VORTAC between the Clarion, PA, VORTAC and the Rochester, NY, VORTAC. The airway segment between the Clarion, PA, VORTAC and the Geneseo, NY, VOR/DME would be removed due to the VOR portion of the Bradford VOR/DME and the Wellsville VORTAC being decommissioned. The airway segment between the Geneseo, NY, VOR/DME and the Rochester, NY, VORTAC would be removed since it would leave a 17 nautical mile airway fragment to V-119 if retained and it overlaps V-147 which will continue to provide enroute structure between the Geneseo VOR/DME and Rochester VORTAC. Additional changes to other portions of the airway are being proposed in a separate NPRM. The unaffected portions of the existing airway would remain as charted.

V-126: V-126 currently extends between the intersection of the Peotone, IL, VORTAC 053° and Knox, IN, VOR/DME 297° radials and the intersection of the Goshen, IN, VORTAC 092° and Fort Wayne, IN, VORTAC 016° radials; and between the Erie, PA, VORTAC and the Stonyfork, PA, VOR/DME. The FAA proposes to remove the airway segment overlying the Wellsville, NY, VORTAC between the Erie, PA, VORTAC and the Stonyfork, PA, VOR/DME. The unaffected portions of the existing airway would remain as charted.

V-164: V-164 currently extends between the Buffalo, NY, VOR/DME and the East Texas, PA, VOR/DME. The FAA proposes to remove the airway segment overlying the Wellsville, NY, VORTAC between the Buffalo, NY, VOR/DME and the Stonyfork, PA, VOR/DME. The unaffected portions of the existing airway would remain as charted.

V-170: V-170 currently extends between the Devils Lake, ND, VOR/DME and the Worthington, MN, VOR/DME; between the Rochester, MN, VOR/DME and the Salem, MI, VORTAC; and between the Bradford, PA, VOR/DME and the intersection of the Andrews, MD, VORTAC 060° and Baltimore, MD, VORTAC 165° radials. The airspace within restricted area R-5802 is excluded when the restricted area is active. The FAA proposes to remove the airway segment overlying the Bradford, PA, VOR/DME between the Bradford, PA, VOR/DME and the Slate Run, PA, VORTAC. The unaffected portions of the existing airway would remain as charted.

V-265: V-265 currently extends between the intersection of the Washington, DC, VOR/DME 043° and Westminster, MD, VORTAC 179° radials and the Jamestown, NY, VOR/DME. The FAA proposes to remove the airway segment overlying the Bradford, PA, VORTAC between the Keating, PA, VORTAC and the Jamestown, NY, VOR/DME. Additionally, an editorial correction is included to change the state abbreviation for the Keating VORTAC listed in the description from “NY” to “PA”. The unaffected portions of the existing airway would remain as charted.

V-270: V-270 currently extends between the Erie, PA, VORTAC and the Boston, MA, VOR/DME. The FAA proposes to remove the airway segment overlying the Wellsville, NY, VORTAC between the Jamestown, NY, VOR/DME and the Elmira, NY, VOR/DME. The unaffected portions of the existing airway would remain as charted.

V-501: V-501 currently extends between the Martinsburg, WV, VORTAC and the Philipsburg, PA, VORTAC; and between the Wellsville, NY, VORTAC and the intersection of the Wellsville, NY, VORTAC 045° and Geneseo, NY, VOR/DME 091° radials. The FAA proposes to remove the airway segment overlying the Wellsville, NY, VORTAC between the Wellsville, NY, VORTAC and the intersection of the Wellsville, NY, VORTAC 045° and Geneseo, NY, VOR/DME 091° radials. The unaffected portions of the existing airway would remain as charted.

All radials listed in the VOR Federal airway descriptions below are unchanged and stated in True degrees.

VOR Federal airways are published in paragraph 6010(a) of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-33 [Amended]

From Harcum, VA; INT Harcum 003° and Nottingham, MD, 174° radials; to Nottingham. From Baltimore, MD; INT Baltimore 004° and Harrisburg, PA, 147° radials; Harrisburg; Philipsburg, PA; to Keating, PA. The airspace within R-4007A and R-4007B is excluded.

* * * * *

V-116 [Amended]

From Stonyfork, PA; INT Stonyfork 098° and Wilkes-Barre, PA, 310° radials; Wilkes-Barre; INT Wilkes-Barre 084° and Sparta, NJ, 300° radials; to Sparta.

* * * * *

V-119 [Amended]

From Newcombe, KY; Henderson, WV; Parkersburg, WV; INT Parkersburg 067° and Indian Head, PA, 254° radials; Indian Head; to Clarion, PA.

* * * * *

V-126 [Amended]

From INT Peotone, IL, 053° and Knox, IN, 297° radials; INT Knox 297° and Goshen, IN, 270° radials; Goshen; to INT Goshen 092° and Fort Wayne, IN, 016° radials.

* * * * *

V-164 [Amended]

From Stonyfork, PA; Williamsport, PA; INT Williamsport 129° and East Texas, PA, 315° radials; to East Texas.

* * * * *

V-170 [Amended]

From Devils Lake, ND; INT Devils Lake 187° and Jamestown, ND, 337° radials; Jamestown; Aberdeen, SD; Sioux Falls, SD; to Worthington, MN. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-265 [Amended]

From INT Washington, DC, 043° and Westminster, MD, 179° radials; Westminster; Harrisburg, PA; Philipsburg, PA; to Keating, PA.

* * * * *

V-270 [Amended]

From Erie, PA; to Jamestown, NY. From Elmira, NY; Binghamton, NY; DeLancey, NY; Chester, MA; INT Chester 091° and Boston, MA, 262° radials; to Boston.

* * * * *

V-501 [Amended]

From Martinsburg, WV; Hagerstown, MD; St Thomas, PA; to Philipsburg, PA.

* * * * *

Issued in Washington, DC, on January 29, 2020.
Scott M Rosenbloom,
Acting Manager, Rules and Regulations Group.

[FR Doc. 2020-02015 Filed 2-3-20; 8:45 am]

BILLING CODE 4910-13-P